DEPARTMENT OF TRANSPORTATION

Federal Aviation Administration

14 CFR Part 39

[Docket No. FAA-2009-1090; Directorate Identifier 2009-SW-31-AD]

RIN 2120-AA64

Airworthiness Directives; Eurocopter France Model AS355E, AS355F, AS355F1, AS355F2, and AS355N Helicopters

AGENCY: Federal Aviation Administration (FAA), DOT.

ACTION: Notice of proposed rulemaking (NPRM).

SUMMARY: We propose to adopt a new airworthiness directive (AD) for Eurocopter France (Eurocopter) Model AS355E, AS355F, AS355F1, AS355F2, and AS355N helicopters. This proposed AD results from a mandatory continuing airworthiness information (MCAI) AD issued by the European Aviation Safety Agency (EASA), which is the Technical Agent for the Member States of the European Community. The MCAI AD states that a metallurgical non-conformity was discovered on a flange of the forward shaft section of the tail rotor drive shaft (drive shaft). The MCAI AD also states that stress analysis has shown that this non-conformity can significantly reduce the strength of the drive shaft and thereby its service life. The proposed actions are intended to remove non-conforming drive shafts from service and prevent failure of the drive shaft and subsequent loss of control of the helicopter.

DATES: We must receive comments on this proposed AD by January 11, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from American Eurocopter Corporation, 2701 Forum Drive, Grand Prairie, TX 75053-4005, telephone (800) 232-0323, fax (972) 641-3710, or at http://www.eurocopter.com.

Examining the Docket: You may examine the AD docket on the Internet at http://www.regulations.gov or in person at the Docket Operations office between 9 a.m. and 5 p.m., Monday through Friday, except Federal holidays. The AD docket contains this proposed AD, the economic evaluation, any comments received, and other information. The street address for the Docket Operations Office (telephone (800) 647-5527) is stated in the ADDRESSES section of this proposal. Comments will be available in the AD docket shortly after receipt.

FOR FURTHER INFORMATION CONTACT: Uday Garadi, Aviation Safety Engineer, FAA, Rotorcraft Directorate, Regulations and Guidance Group, 2601 Meacham Blvd., Fort Worth, Texas 76137, telephone (817) 222-5123, fax (817) 222-5961.

SUPPLEMENTARY INFORMATION:

Comments Invited

We invite you to send any written data, views, or arguments about this proposed AD. Send your comments to an address listed in the ADDRESSES section of this proposal. Include “Docket No. FAA-2009-1090; Directorate Identifier 2009-SW-31-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

EASA has issued AD 2006-0100, dated April 24, 2006, to correct an unsafe condition for Eurocopter Model AS355E, AS355F, AS355F1, AS355F2, and AS355N helicopters with a drive shaft forward shaft section, part number 355A 34-1090-00, and a serial number from M858 (inclusive) up to M873 (inclusive). EASA advises of the discovery of a non-conformity in the metal of a flange of the drive shaft of an AS355 helicopter. EASA also advises that stress analysis has shown that this non-conformity may significantly reduce the strength and the service life of this component. The proposed AD is intended to remove non-conforming drive shafts from service and prevent failure of the drive shaft and subsequent loss of control of the helicopter. You may obtain further information by examining the MCAI AD and any related service information in the AD docket.

Related Service Information

Eurocopter has issued Alert Service Bulletin No. 01.00.51, Revision 1, dated February 9, 2006. The actions described in the MCAI AD are intended to correct the unsafe condition identified in the service information.

FAA's Evaluation and Unsafe Condition Determination

This product has been approved by the aviation authority of France and is approved for operation in the United States. Pursuant to our bilateral agreement with France, EASA, their technical agent, has notified us of the unsafe condition described in the MCAI AD. We are proposing this AD because we evaluated all information provided by EASA and determined the unsafe condition exists and is likely to exist or develop on other products of the same type design. This proposed AD would require removing any non-conforming drive shaft and replacing it with an airworthy drive shaft that is not included in the applicability of the AD.

Differences Between This Proposed AD and the MCAI AD

This AD would differ from the MCAI AD as follows:

• We refer to the compliance time as “hours time-in-service” rather than “flying hours” and

• We do not require returning spares to the manufacturer.

Costs of Compliance

We estimate that this proposed AD would affect about 96 helicopters of U.S. registry. We also estimate that it would take about 2 work-hours per helicopter to do the proposed actions. The average labor rate is $80 per work-hour. Required parts would cost about $8,335 per helicopter. Based on these figures, we estimate the cost of the proposed AD on U.S. operators would be $815,520, or $8,495 per helicopter, assuming that the drive shaft is replaced on each helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on product(s) identified in this rulemaking action.

Regulatory Findings

We determined that this proposed AD would not have federalism implications under Executive Order 13132. This proposed AD would not have a substantial direct effect on the States, on the relationship between the national Government and the States, or on the distribution of power and responsibilities among the various levels of government.

Therefore, I certify this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Eurocopter France: Docket No. FAA-2009-1090; Directorate Identifier 2009-SW-31-AD.

Comments Due Date

(a) We must receive your comments by January 11, 2010.

Other Affected ADs

(b) None.

Applicability

(c) This AD applies to Model AS355E, AS355F, AS355F1, AS355F2, and AS355N helicopters with tail rotor drive shaft forward shaft section, part number 355A 34-1090-00, serial number 858 through 873 (inclusive) with a prefix “M,” certificated in any category. This AD does not apply to helicopters manufactured after January 1, 2005.

Reason

(d) The mandatory continuing airworthiness information (MCAI) AD states that a metallurgical non-conformity was discovered on a flange of the forward shaft section of the tail rotor drive shaft (drive shaft). The MCAI AD also states that stress analysis has shown that this non-conformity can significantly reduce the strength of the drive shaft and thereby its service life. This AD is intended to remove non-conforming drive shafts from service and prevent failure of the drive shaft and subsequent loss of control of the helicopter.

Actions and Compliance

(e) Unless already accomplished, do the following:

(1) For any drive shaft that has less than 2,400 hours time-in-service (TIS), on or before reaching 2,500 hours TIS, remove the drive shaft and replace it with an airworthy drive shaft that is not included in the applicability of this AD.

(2) For any drive shaft with 2,400 or more hours TIS, within the next 100 hours TIS, remove the drive shaft and replace it with an airworthy drive shaft that is not included in the applicability of this AD.

Differences Between This AD and the MCAI AD

(f) This AD differs from the MCAI AD as follows:

(1) We refer to the compliance time as “hours time-in-service” rather than “flying hours” and

(2) We do not require returning spares to the manufacturer.

Other Information

(g) Alternative Methods of Compliance (AMOCs): The Manager, Safety Management Group, FAA, ATTN: Uday Garadi, Aviation Safety Engineer, Regulations and Guidance Group, FAA, Rotorcraft Directorate, 2601 Meacham Blvd., Fort Worth, Texas 76137, telephone (817) 222-5123, fax (817) 222-5961, has the authority to approve AMOCs for this AD, if requested using the procedures found in 14 CFR 39.19.

Related Information

(h) European Aviation Safety Agency (EASA) AD No. 2006-0100, dated April 24, 2006, and Eurocopter Alert Service Bulletin No. 01.00.51, Revision 1, dated February 9, 2006, contain related information.

Joint Aircraft System/Component (JASC) Code

(i) JASC Code 6510: Tail rotor drive shaft.

Issued in Fort Worth, Texas on November 23, 2009.
Mark R. Schilling,
Acting Manager, Rotorcraft Directorate, Aircraft Certification Service.

[FR Doc. E9-29431 Filed 12-9-09; 8:45 am]

BILLING CODE 4910-13-P